OFFICE OF THE UNITED STATES TRADE REPRESENTATIVE

[Docket Number USTR-2022-0005]

Request for Comments on Proposed U.S.-Taiwan Initiative on 21st-Century Trade; Correction

AGENCY: Office of the United States Trade Representative (USTR).

ACTION: Request for comments; correction.

SUMMARY: The Office of the United States Trade Representative (USTR) published a document in the Federal Register on June 7, 2022 concerning a request for comments on the proposed U.S.-Taiwan Initiative on 21st-Century Trade. The submission deadline specified in the notice needs to be corrected.

FOR FURTHER INFORMATION CONTACT: For procedural questions concerning written comments, please contact Spencer Smith at Spencer.L.Smith2@ustr.eop.gov or (202) 395-2974 in advance of the deadline and before transmitting a comment. Direct all other questions to Jing Jing Zhang, Deputy Director for China Affairs, at Yizhi.Zhang@ustr.eop.gov, or (202) 395-9534.

SUPPLEMENTARY INFORMATION:

Correction

In the Federal Register on June 7, 2022, in FR Doc 2022-12248 (87 FR 34745), on page 34746, starting in the second column, correct the “III. Submission Instructions” caption to read as follows:

III. Submission Instructions

Persons submitting written comments must do so in English and must identify on the first page of the submission “Comments Regarding U.S.-Taiwan Initiative on 21st-Century Trade.”

The submission deadline is July 8, 2022. USTR strongly encourages commenters to make online submissions, using Regulations.gov. To submit comments via Regulations.gov, enter docket number USTR-2022-0005 on the home page and click `search.' The site will provide a search-results page listing all documents associated with this docket. Find a reference to this notice and click on the link entitled `Comment Now' For further information on using Regulations.gov, please consult the resources provided on the website by clicking on `How to Use This Site' on the left side of the home page.

Regulations.gov allows users to submit comments by filling in a `type comment' field, or by attaching a document using an `upload file' field. USTR prefers that you provide comments in an attached document. USTR prefers submissions in Microsoft Word (.doc) or Adobe Acrobat (.pdf). If you use an application other than those two, please indicate the name of the application in the `type comment' field.

Filers submitting comments containing no business confidential information (BCI) should name their file using the name of the person or entity submitting the comments. For any comments submitted electronically containing BCI, the file name of the business confidential version should begin with the characters `BCI.' Clearly mark any page containing BCI with `BUSINESS CONFIDENTIAL' on the top of that page. Filers of submissions containing BCI also must submit a public version of their comments that USTR will place in the docket for public inspection. The file name of the public version should begin with the character `P.' Follow the `BCI' and `P' with the name of the person or entity submitting the comments.

Please do not attach separate cover letters to electronic submissions; rather, include any information that might appear in a cover letter in the comments themselves. Similarly, to the extent possible, please include any exhibits, annexes, or other attachments in the same file as the submission itself, not as separate files.

As noted, USTR strongly urges that you file comments through Regulations.gov. You must make any alternative arrangements with Spencer Smith at Spencer.L.Smith2@ustr.eop.gov or (202) 395-2974 before transmitting a comment and in advance of the deadline.

USTR will post comments in the docket for public inspection, except properly designated BCI. You can view comments on the Regulations.gov by entering docket number USTR-2022-0005 in the search field on the home page. General information concerning USTR is available at https://www.ustr.gov.

William Shpiece,
Chair of the Trade Policy Staff Committee, Office of the United States Trade Representative.

[FR Doc. 2022-12556 Filed 6-9-22; 8:45 am]

BILLING CODE 3290-F2-P